DEPARTMENT OF ENERGY

Notice of Restricted Eligibility Support of Advanced Fossil Resource Utilization Research by Historically Black Colleges and Universities and Other Minority Institutions

AGENCY: National Energy Technology Laboratory (NETL), U.S. Department of Energy (DOE).

ACTION: Notice of restricted eligibility.

SUMMARY: The Department of Energy announces that it intends to conduct a competitive Program Solicitation and award financial assistance (grants) to U.S. Historically Black Colleges and Universities (HBCU) and Other Minority Institutions (OMI) in support of innovative research and development of advanced concepts pertinent to fossil resource conversion and utilization. Applications will be subjected to a review by a DOE technical panel, and awards will be made to a select number of applicants based on the scientific merit of the application, relevant program policy factors, and the availability of funds. Collaboration with private industry is encouraged.

FOR FURTHER INFORMATION CONTACT: Ms. Cynthia Y. Mitchell, U.S. Department of Energy, National Energy Technology Laboratory, Acquisition and Assistance Division, P.O. Box 10940, MS 921-107, Pittsburgh PA 15236-0940, Telephone: 412-386-4862, FAX: 412-386-6137, E-mail: mitchell@netl.doe.gov. The solicitation (available in both Word Perfect 6.1 for Windows and Portable Document Format (PDF)) will be released on DOE's NETL World Wide Web Server Internet System (http://www.netl.doe.gov/business/solicit) on or about February 2, 2001. If applicants do not have Internet capability, a 3.5″ double sided/high density diskette copy of the solicitation will be available, upon receipt of a written request submitted via fax or e-mail to Ms. Mitchell. No telephone requests will be honored for request of diskettes.

SUPPLEMENTARY INFORMATION: Title of Solicitation: “Support of Advanced Fossil Resource Utilization Research by Historically Black Colleges and Universities and Other Minority Institutions.”

Objectives: Through Program Solicitation No. DE-PS26-01NT40950, the Department of Energy seeks applications from HBCU and OMI and HBCU/OMI-affiliated research institutes for innovative research and development of advanced concepts pertinent to fossil resource conversion and utilization. The resultant grants are intended to maintain and upgrade educational, training, and research capabilities of our HBCU/OMI in the fields of science and technology related to fossil energy resources; to foster private sector participation, collaboration, and interaction with HBCU/OMI; and to provide for the exchange of technical information and to raise the overall level of HBCU/OMI competitiveness with other institutions in the field of fossil energy research and development. Thus, the establishment of linkages between the HBCU/OMI and the private sector fossil energy community is critical to the success of this program, and consistent with the Nation's goal of ensuring a future supply of fossil fuel scientists and engineers from a previously under-utilized resource.

Eligibility: Eligibility for participation in this Program Solicitation is restricted to HBCU and OMI recognized by the Office for Civil Rights (OCR), U.S. Department of Education, and identified on the OCR's U.S. Department of Education list of U.S. Accredited Postsecondary Minority Institutions list in effect on the closing date of the Program Solicitation. Applications submitted by any institution not on OCR's aforementioned list are ineligible for technical evaluation and award. For information regarding the qualification criteria and process of becoming recognized by the Education Department's OCR as a “Minority Institution,” institutions should contact the Education Department directly at the following address: Mr. Peter A. McCabe, Office for Civil Rights, U.S. Department of Education, Washington DC 20202, Telephone 202-205-9567. Note: The Education Department should only be contacted on matters related to Institutional status; questions regarding the Program Solicitation should be directed to Ms. Mitchell at DOE.

Applications from HBCU/OMI-affiliated research institutes must be submitted through the college or university with which they are affiliated. The university (not the university-affiliated research institute) will be the recipient of any resultant DOE grant award. Applications submitted in response to the solicitation must meet the following two criteria: the Principal Investigator or a Co-Principal Investigator must be a teaching professor at the submitting university listed in the application; and a minimum of 30% of personnel time invoiced under the grant is to pay for student assistance for each year of the grant. Although it is not required as an application qualification criterion, collaboration with the private sector is encouraged, and applications proposing private sector collaboration may be evaluated more favorably. The solicitation will contain a complete description of the technical evaluation factors and relative importance of each factor. Collaboration by the private sector with the HBCU/OMI may be in the form of cash cost sharing, consultation, HBCU/OMI access to industrial facilities or equipment, experimental data and/or equipment not available at the university, or as a subgrantee/subcontractor to the HBCU/OMI.

Areas of Interest: In order to develop and sustain a national program of HBCU/OMI research in advanced and fundamental fossil fuel studies, the Department of Energy is interested in innovative research and development of advanced concepts pertinent to fossil fuel conversion and utilization limited to the following nine (9) technical topics:

Topic 1—Advanced Environmental Control Technologies for Coal

Topic 2—Advanced Coal Utilization

Topic 3—Clean Fuels Technology

Topic 4—Heavy Oil Upgrading and Processing

Topic 5—Advanced Recovery, Completion/Stimulation, and Geoscience Technologies for Oil

Topic 6—Natural Gas Supply, Storage, and Processing

Topic 7—Infrastructure Reliability for Natural Gas

Topic 8—Fuel Cells

Topic 9—Facility/Student Exploratory Research Training Grants

Note: Technical Topic No. 9, Faculty/Student Exploratory Research Training Grants, is the only topic under this Program Solicitation wherein the inclusion or exclusion of private sector collaboration will not affect the technical evaluation of the application.

Awards: DOE anticipates issuing financial assistance (grants) for each project selected. DOE reserves the right to support or not support, with or without discussions, any or all applications received in whole or in part, and to determine how many awards may be made through the solicitation subject to funds available in this fiscal year. The limitation on the maximum DOE funding for each selected grant to be awarded under this Program Solicitation is as follows:

| Maximum award
Topics 1-8:
0-12 months grant duration | $85,000
13-24 months grant duration | 150,000
25-36 months grant duration | 200,000
Topic 9:
0-12 months grant duration | 20,000

Approximately $900,000 is planned for this solicitation. The total should provide support for four to eight research and development application selections (Topics 1-8), and approximately two to twelve faculty/student exploratory research training application selections (Topic 9).

Solicitation Release Date: The Program Solicitation is expected to be ready for release on or about February 2, 2001. Applications must be prepared and submitted in accordance with the instructions and forms contained in the Program Solicitation. To be eligible, applications must be received by the designated DOE office by the closing time and date specified in the Program Solicitation (anticipated to be on or about March 20, 2001 at 5:00 PM Eastern Standard Time).

Issued in Pittsburgh, Pennsylvania on January 30, 2001.
William R. Mundorf,
Contracting Officer, Acquisition and Assistance Division.

[FR Doc. 01-3314 Filed 2-7-01; 8:45 am]

BILLING CODE 6450-01-U